ENVIRONMENTAL PROTECTION AGENCY

[FRL-9995-16-0MS]

Privacy Act of 1974; System of Records

AGENCY: Office of Mission Support, Environmental Protection Agency (EPA).

ACTION: Notice of a New System of Records.

SUMMARY: The U.S. Environmental Protection Agency's (EPA) Office of the Administrator is giving notice that it proposes to publish a system of records pursuant to the provisions of the Privacy Act of 1974. The Reasonable Accommodation Management System (RAMS) will support the Agency's Reasonable Accommodation program as required by the Equal Employment Opportunity Commission (EEOC) and in compliance with the requirements of Executive Order 13164. The EEOC requires federal agencies to process requests by employees for reasonable accommodations that enable a person with a disability to apply for a job, perform job duties, and/or enjoy the benefits and privileges of employment. The documentation required to process theses requests will contain personally identifiable information (PII).

DATES: Persons wishing to comment on this system of records notice must do so by August 7, 2019. If no comments are received by the end of the comment period, this system of records will become effective on August 7, 2019.

ADDRESSES: Submit your comments, identified by Docket ID No. EPA-HQ-OEI-2017-0536 by one of the following methods:

Regulations.gov: www.regulations.gov. Follow the online instructions for submitting comments.

Email: oei.docket@epa.gov.

Fax: 202-566-1752.

Mail: OEI Docket, Environmental Protection Agency, Mailcode: 2822T, 1200 Pennsylvania Ave. NW, Washington, DC 20460.

Hand Delivery: OEI Docket, EPA/DC, WJC West Building, Room 3334, 1301 Constitution Ave. NW, Washington, DC. Such deliveries are only accepted during the Docket's normal hours of operation, and special arrangements should be made for deliveries of boxed information.

Instructions: Direct your comments to Docket ID No. EPA-HQ-OEI-2017-0536. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Kristin Tropp, (202) 559-0006 or Tropp.Kristin@epa.gov and/or Amanda Sweda, (202) 566-0678 or Sweda.Amanda@epa.gov.

SUPPLEMENTARY INFORMATION: The U.S. Environmental Protection Agency (EPA) proposes to publish a Privacy Act system of records for the Reasonable Accommodation Management System (RAMS). The RAMS is an information management and reporting system for internal use by the National Reasonable Accommodation Program. The information collected in the RAMS is required by the Equal Employment Opportunity Commission (EEOC) under Section 501 of the Rehabilitation Act and in order for the Agency to comply with Executive Order 13164 and EEOC Management Directive 715 (MD 715). Requestors of reasonable accommodations provide information that includes PII to the National Reasonable Accommodation Coordinator (NRAC) or Assistant National Reasonable Accommodation Coordinator (ANRAC) in EPA's Office of Civil Rights (OCR), a Local Reasonable Accommodation Coordinator (LORAC), or the requestor's manager so that a determination on disability status can be made. PII contained in RAMS will include name, date of birth, medical documentation, and general categories of type of accommodation (telework, workplace modification, flexible schedule, assistive technology, interpreter services).

The NRAC, ANRAC, LORAC will have access to the records in RAMS, which can only be logged onto using the employee PIV card and passwords. The RAMS contractors provide infrastructure services including supporting hardware and software, internet gateway communications security, system administration, and system and application security services but do not collect, maintain or access the records in RAMS. The physical environment includes access restricted by on-site security and employee badge requirements for RAMS contractors.

SYSTEM NAME AND NUMBER:

Reasonable Accommodation Management System (RAMS) EPA-73.

SECURITY CLASSIFICATION:

Unclassified.

SYSTEM LOCATION:

Office of the Administrator, Office of Civil Rights, US EPA, 1200 Pennsylvania Avenue NW, Washington, DC 20004.

SYSTEM MANAGER(S):

Amanda Sweda, (202) 566-0678 or Sweda.Amanda@epa.gov, National Reasonable Accommodation Coordinator, Office of Civil Rights, 1200 Pennsylvania Avenue NW, Washington, DC 20004.

Kristin Tropp, (202) 559-0006 or Tropp.Kristin@epa.gov, Assistant National Reasonable Accommodation Coordinator, Office of Civil Rights, 1200 Pennsylvania Avenue NW, Washington, DC 20004.

AUTHORITY FOR MAINTENANCE OF THE SYSTEM:

The Rehabilitation Act of 1973; 501 and 504; the Americans with Disabilities Act Amendments Act of 2008 (Pub. L. 110-325 (ADAAA); Executive Order 13164 (July 28, 2000); and Executive Order 13548 (July 26, 2010).

PURPOSE(S) OF THE SYSTEM:

The primary purpose of the RAMS is to allow EPA to collect and maintain reasonable accommodation records on applicants for employment as well as current employees who request or receive reasonable accommodation(s) from EPA under the Rehabilitation Act of 1973 and the ADAAA. These records document when and what was asked for as a reasonable accommodation and what was approved or denied as a reasonable accommodation. The records may include required medical documentation and a determination of disability letter stating whether the individual is a person with a disability. The system will also be used to track processing of requests for reasonable accommodations only to the extent necessary to ensure EPA-wide compliance with applicable laws and regulations while preserving and maintaining the confidentiality and privacy of all information provided in support of accommodation request.

The Rehabilitation Act and the ADAAA require federal agencies to provide reasonable accommodations to qualified applicants for employment and employees with disabilities if known or requested unless the accommodation would impose an undue hardship on the agency. The Rehabilitation Act requires federal agencies to provide reasonable accommodations or modifications to allow participation by persons with disabilities in agency programs or activities. Reasonable Accommodations are modifications or adjustments that will allow applicants and employees to apply for a job, perform job duties, and/or enjoy the benefits and privileges of employment. Reasonable accommodations may include: (1) Making existing facilities readily accessible to and usable by individual with disabilities; (2) job restructuring, modification of work schedules or place of work, extended leave, telecommuting, or reassignment to a vacant position; (3) acquisition or modification of equipment or devices, including computer software and hardware, appropriate adjustments or modifications of examinations, training materials or policies, the provision of qualified readers and/or interpreters, personal assistants that enable the individual to perform his or her job duties and enjoy the benefits and privileges of employment, and other similar accommodations; and/or (4) providing interpreters, large print programs, or other accommodations for EPA events or activities open to employees, applicants, and/or the public.

CATEGORIES OF INDIVIDUALS COVERED BY THE SYSTEM:

All employees and applicants for employment at the United States Environmental Protection Agency who request a reasonable accommodation.

CATEGORIES OF RECORDS IN THE SYSTEM:

Email correspondence, determination of disability letter(s), medical information (if provided), Appendix A Applicant Confirmation of Request for RA; Appendix B Employee Confirmation of Request for RA (AFGE); Appendix B Confirmation of Request for Reasonable Accommodation Form (Non-AFGE); Appendix C Denial of Reasonable Accommodation Request Form (Non-AFGE); Appendix D RA Information Reporting (AFGE); Appendix D Reasonable Accommodation Information Reporting Form (Non-AFGE); Appendix E Limited Medical Privacy Release Form (AFGE); Appendix F Final RA Decision (AFGE); Authorization to Receive and Review Documentation for Reasonable Accommodation (Non-AFGE). Specific data elements are: Employee or applicant name, mail code address, work phone, work email address, office name, occupational series, pay grade, bargaining unit, accommodation requested, request date, determination date, determination method, explanation of method, status, decision-making official name and title, disability status, medical information request tracking data, medical information recipient name, medical information release form and related tracking data, data concerning communication of decisions, accommodation offer notification and related comments, the date that the reasonable accommodation request was made, and the status of the request.

RECORD SOURCE CATEGORIES:

Information is obtained from employees and applicants for employment who requested reasonable accommodation(s) under the Rehabilitation Act of 1973 and the ADAAA from the EPA.

ROUTINE USES OF RECORDS MAINTAINED IN THE SYSTEM, INCLUDING CATEGORIES OF USERS AND PURPOSES OF SUCH USES:

EPA General routine uses A, B, C, F, I, J, K apply to this system. (73 FR 2245) The information collected in the RAMS will be used in a manner that is compatible and consistent with the purposes for which the information has been collected. Information from this system of records may be disclosed for the following EPA General routine uses (73 FR 2245):

A. Information may be disclosed to the appropriate Federal, State, local, tribal, or foreign agency responsible for investigating, prosecuting, enforcing, or implementing a statute, rule, regulation, or order, if the information is relevant to a violation or potential violation of civil or criminal law or regulation within the jurisdiction of the receiving entity.

B. Information may be disclosed to any source from which additional information is requested (to the extent necessary to identify the individual, inform the source of the purpose of the request, and to identify the type of information requested,) when necessary to obtain information relevant to an agency decision concerning retention of an employee or other personnel action (other than hiring,) retention of a security clearance, the letting of a contract, or the issuance or retention of a grant, or other benefit.

C. Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

F. Information may be disclosed to the Department of Justice, or in a proceeding before a court, adjudicative body, or other administrative body before which the Agency is authorized to appear, when:

1. The Agency, or any component thereof;

2. Any employee of the Agency in his or her official capacity;

3. Any employee of the Agency in his or her individual capacity where the Department of Justice or the Agency have agreed to represent the employee; or

4. The United States, if the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

I. Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Information from this system of records may be disclosed to the Office of Personnel Management pursuant to that agency's responsibility for evaluation and oversight of Federal personnel management.

K. Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

Records may also be disclosed to:

Appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

Another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The paper records are maintained in locked file cabinets inside of a locked office located in the Office of Civil Rights, 1200 Pennsylvania Ave. NW, Washington, DC 20004. RAMS is currently hosted at a FedRAMP certified Cloud Service Provider location at the contractor's facility in Ashburn, VA 20147. Users access the RAMS system via the internet. The files stored in RAMS are accessed by the authorized users accessing RAMS content hosted on a secure external server and website from their PC client Web browsers.

POLICIES AND PRACTICES FOR RETRIEVAL OF RECORDS:

These records are retrieved by the individual's name, or a case number which is assigned by the system when the request is first entered into RAMS, and office/region.

POLICIES AND PRACTICES FOR RETENTION AND DISPOSAL OF RECORDS:

Records stored in this system are subject to EPA records schedule number (EPA 0068), Reasonable accommodation Request Records. A records schedule provides mandatory instructions on how long to keep records (retention) and when they can be disposed. Reasonable accommodation records are retained until three years after an employee separates from EPA or three years after an applicant made the request if they are not hired.

ADMINISTRATIVE, TECHNICAL, AND PHYSICAL SAFEGUARDS:

Computer-stored information is protected in accordance with the Agency's Chief Information Officer (CIO) 2150.3 Environmental Protection Agency Information Security Policy and procedures.

○ Access to RAMS is limited to authorized users only. Authorized users include the NRAC, ANRAC, and LORACs. LORACs have limited access to data that is associated with their respective region or office.

○ RAMS master administrators are the NRAC and ANRAC and control user access to system functionality and data by assigning system roles and permissions. A “permission” is a rule that regulates which users have access to what function or data and in what manner. The Master Administrators assign each user (the LORACs) a role which determines what type of data they can access and then assigns them areas of the Agency they can see that data for. The Master Administrators limit individual access to only the information for which the individual LORAC has a need to know.

○ The RAMS contractor is a contractor to EPA that supports the RAMS information management and reporting system. The contractor is subject to the Federal Acquisition Regulations (FAR) Privacy Act clauses in its contract with EPA.

○ The RAMS contractor provides a fully managed support infrastructure service including supporting hardware and software, internet gateway communications security, system administration, and system and application security services. The RAMS contractor does not access the actual files collected and maintained by the NRAC, ANRAC, or LORACs. The physical environment includes access restricted by on-site security and employee badge requirements.

○ The system safeguards the data from access by those not authorized to access it, limiting its access to only employees who have a business need to access it and perform the duties of their assigned jobs. The system links to no other system and the data is not shared externally.

○ All physical reasonable accommodation files are kept confidential and maintained in the Office of Civil Rights, in secure, locked cabinets. Only the NRAC and ANRAC have access to these files. Employees/manager who obtain or receive such information (medical information, determination of disability letters with functional limitations described) are strictly bound by confidentiality requirements. Whenever information on an employee with a reasonable accommodation is disclosed, the individual disclosing the information must inform the recipients of their continuing confidentiality obligations.

RECORD ACCESS PROCEDURES:

Individuals seeking access to information in this system of records about themselves are required to provide adequate identification (e.g., driver's license, military identification card, employee badge or identification card). Additional identity verification procedures may be required, as warranted. Requests must meet the requirements of EPA regulations that implement the Privacy Act of 1974, at 40 CFR part 16.

CONTESTING RECORD PROCEDURES:

Requests for correction or amendment must identify the record to be changed and the corrective action sought. Complete EPA Privacy Act procedures are described in EPA's Privacy Act regulations at 40 CFR part 16.

NOTIFICATION PROCEDURE:

Any individual who wants to know whether this system of records contains a record about him or her, who wants access to his or her record, or who wants to contest the contents of a record, should make a written request to the EPA National Privacy Program Attn: Agency Privacy Officer, MC 2831T, 1200 Pennsylvania Ave. NW, Washington, DC 20460.

EXEMPTIONS PROMULGATED FOR THE SYSTEM:

None.

HISTORY:

None.

Dated: June 5, 2019.
Vaughn Noga,
Senior Agency Official for Privacy.

[FR Doc. 2019-14469 Filed 7-5-19; 8:45 am]

BILLING CODE 6560-50-P